DEPARTMENT OF HEALTH AND HUMAN SERVICES

Substance Abuse and Mental Health Services Administration

Funding Opportunities Notice for the Community Action Grants for Service System Change, May 10, 2002 Application Date

AGENCY: Center for Mental Health Services (CMHS), Substance Abuse and Mental Health Services Administration (SAMHSA), DHHS.

ACTION: Modification/Clarification of a notice of funding availability regarding the Substance Abuse and Mental Health Services Administration, Center for Mental Health Services, Community Action Grants for Service System Change.

SUMMARY: This notice is to inform the public that the SAMHSA/CMHS announcement No. PA00-003, Community Action Grants for Service System Change (Short Title: Community Action Grants) will have only one application receipt date on May 10, 2002. Awards will be made in September 2002. Consistent with SAMHSA policy for all grants and applications, scored applications that are not funded in September 2002 will be held for consideration for one year, should funding become available in FY 2003. Sponsors of exemplary practices who are considering applying for a grant through the standing announcement for one of the subsequent receipt dates should note that the President's FY03 Budget proposes no funds for new awards during FY03. Should Community Action Grant funding become available, a new announcement will be published. Check the Federal Register and/or the SAMHSA Web site for notice of the announcement at http://www.samhsa.gov/.

Community Action Grants for Service Systems Change support the adoption and implementation of exemplary practices related to the delivery and organization of services for children with serious emotional disturbance or adults with serious mental illness, and those with co-occurring disorders. Awards range from a minimum of $50,000 to a maximum of $150,000 in total costs.

Program Contact: For questions concerning program issues, contact: David Morrissette, DSW, Community Support Program, Suite 11C-22, 5600 Fishers Lane, Rockville, MD 20857, 301-443-3653, Fax 301-443-0541, E-mail: dmorriss@samhsa.gov.

Dated: April 2, 2002.
Chuck Novak,
Acting Executive Officer, SAMHSA.

[FR Doc. 02-8393 Filed 4-8-02; 8:45 am]

BILLING CODE 4162-20-P